DEPARTMENT OF TRANSPORTATION

Federal Railroad Administration

[Docket Number FRA-2024-0079]

Petition for Waiver of Compliance

AGENCY: Federal Railroad Administration (FRA), Department of Transportation (DOT).

ACTION: Notice.

SUMMARY: This document provides the public notice that by letter dated January 24, 2025, Canadian Pacific Kansas City (CPKC) revised its request for relief to permit the replacement of wheelsets on rail cars as part of CPKC's In-train Wheelset Replacement Program.

DATES: Comments: FRA must receive comments on the petition by March 24, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Leith Al-Nazer, Mechanical Engineer, Motive Power and Equipment Division, FRA, telephone: 202-493-6128, email: leith.al-nazer@dot.gov.

SUPPLEMENTARY INFORMATION: Under part 211 of title 49 Code of Federal Regulations (CFR), this document provides the public notice that by letter dated January 24, 2025, CPKC revised its request for relief in Docket Number FRA-2024-0079.

Specifically, CPKC amended its previously filed request for relief from the requirements of 49 CFR 232.305(b)(2), Single car air brake tests, to “permit the replacement of wheel-sets on rail cars as part of CPKC's In-train Wheelset Replacement Program . . . without the need to also perform the [single car air brake test (SCABT)]” as required. CPKC's initial request dated June 26, 2024, explained the program would be used only at CPKC's International Freight Gateway intermodal facility in Kansas City, Missouri. In its January 24, 2025, submission, CPKC states that it also seeks implement this program in its Laredo Yard in Laredo, Texas.

In its January 24, 2025, petition, CPKC again explained that the program “proactively address[es] wheel defects before they create potential risks to safe railroad operations” by identifying and changing the wheels while a crew remains on the lead locomotive. CPKC also indicated that it consulted with the Brotherhood Railway Carmen Division, Transportation Communications Union, which supports the program and request.

A copy of the revised petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

Communications received by March 24, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-02835 Filed 2-19-25; 8:45 am]

BILLING CODE 4910-06-P